DEPARTMENT OF HEALTH AND HUMAN SERVICES

National Institutes of Health

National Institute of Nursing Research; Notice of Meetings

Pursuant to section 1009 of the Federal Advisory Committee Act, as amended, notice is hereby given of meetings of the National Advisory Council for Nursing Research.

The meeting will be held as virtual meeting and will be open to the public as indicated below. Individuals who plan to view the virtual meeting and need special assistance or other reasonable accommodation to view the meeting should notify the Contact Person listed below in advance of the meeting. The open session will be videocast and can be accessed from the NIH Videocast at the following link: https://videocast.nih.gov/.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Nursing Research.

Date: January 27, 2026.

Open: 10:00 a.m. to 12:00 p.m.

Agenda: Director's update and other Council business.

Address: National Institutes of Health, National Institute of Nursing Research, 6700B Rockledge Drive, Bethesda, MD 20892.

Meeting Format: Virtual Meeting.

Contact Person: Elizabeth Tarlov, Ph.D., RN, Director, Division of Extramural Science Programs (DESP), National Institute of Nursing Research, 6700B Rockledge Drive, Bethesda, MD 20892, (301) 496-8511 elizabeth.tarlov@nih.gov.

The meeting identified below has been scheduled in the event the Council is unable to complete all agenda items identified for the January 27, 2026, meeting. Information on the agenda items and/or the necessity to hold the meeting listed below will be posted on the Institute/Center homepage (link identified below).

Name of Committee: National Advisory Council for Nursing Research.

Date: April 8, 2026.

Closed: 1:00 p.m. to 2:00 p.m.

Agenda: To review and evaluate grant applications.

Address: National Institutes of Health, National Institute of Nursing Research, 6700B Rockledge Drive, Bethesda, MD 20892.

Meeting Format: Virtual Meeting.

Contact Person: Elizabeth Tarlov, Ph.D., RN, Director, Division of Extramural Science Programs (DESP), National Institute of Nursing Research, 6700B Rockledge Drive, Bethesda, MD 20892, (301) 496-8511 elizabeth.tarlov@nih.gov.

Registration is not required to attend the open session of the meeting.

Any interested person may file written comments with the committee by forwarding the statement to the Contact Person listed on this notice. The statement should include the name, address, telephone number and when applicable, the business or professional affiliation of the interested person. Information is also available on the Institute's/Center's home page: https://www.ninr.nih.gov/aboutninr/nacnr, where an agenda and any additional information for the meeting will be posted when available.

(Catalogue of Federal Domestic Assistance Program Nos. 93.361, Nursing Research, National Institutes of Health, HHS)

Dated: December 23, 2025.
Denise M. Santeufemio,
Supervisory Program Analyst, Office of Federal Advisory Committee Policy.

[FR Doc. 2025-23977 Filed 12-29-25; 8:45 am]

BILLING CODE 4140-01-P